DEPARTMENT OF HOMELAND SECURITY

Coast Guard

[USCG-2006-25796]

National Boating Safety Advisory Council

AGENCY: Coast Guard, DHS.

ACTION: Notice of meetings.

SUMMARY: The National Boating Safety Advisory Council (NBSAC) and its subcommittees on boats and associated equipment, prevention through people, and recreational boating safety strategic planning will meet to discuss various issues relating to recreational boating safety. All meetings will be open to the public.

DATES: NBSAC will meet on Saturday, October 21, 2006, from 1 p.m. to 5 p.m., on Monday, October 23, 2006, from 1:30 p.m. to 4:30 p.m., and on Tuesday, October 24, 2006, from 8:30 a.m. to 12 noon. The Prevention Through People Subcommittee will meet on Sunday, October 22, 2006, from 8:30 a.m. to 12 noon. The Boats and Associated Equipment Subcommittee will meet on Sunday, October 22, 2006, from 1:30 p.m. to 5 p.m. The Recreational Boating Safety Strategic Planning Subcommittee will meet on Monday, October 23, 2006, from 8:30 a.m. to 12 noon. These meetings may close early if all business is finished. On Sunday, October 22, a Subcommittee meeting may start earlier if the preceding Subcommittee meeting has closed early. Written material and requests to make oral presentations should reach the Coast Guard on or before Monday, October 9, 2006. Requests to have a copy of your material distributed to each member of the committee or subcommittees in advance of the meeting should also reach the Coast Guard on or before Thursday, October 12, 2006.

ADDRESSES: NBSAC will meet at the Hyatt Regency Hotel, 2799 Jefferson Davis Highway, Arlington, VA. The subcommittee meetings will be held at the same address. Send written material and requests to make oral presentations to Mr. Jeff Ludwig, Executive Secretary of NBSAC, Commandant (G-PCB-1), U.S. Coast Guard Headquarters, 2100 Second Street, SW., Washington, DC 20593-0001. This notice is available on the Internet at http://dms.dot.gov or at the Web Site for the Office of Boating Safety at URL address http://www.uscgboating.org.

FOR FURTHER INFORMATION CONTACT: Jeff Ludwig, Executive Secretary of NBSAC, telephone 202-267-0967, fax 202-267-4285. You may obtain a copy of this notice by calling the U.S. Coast Guard Infoline at 1-800-368-5647.

SUPPLEMENTARY INFORMATION: Notice of these meetings is given under the Federal Advisory Committee Act, 5 U.S.C. App. 2.

Tentative Agendas of Meetings

National Boating Safety Advisory Council (NBSAC). The agenda includes the following:

(1) Remarks—Mr. James P. Muldoon, NBSAC Chairman; Rear Admiral Brian Salerno, Director of Inspections & Compliance.

(2) Swearing in of recent appointees (includes new members and continued members).

(3) Chief, Office of Boating Safety Update on NBSAC Resolutions and Recreational Boating Safety Program report.

(4) Executive Director's report.

(5) Chairman's session.

(6) Report from TSAC Liaison.

(7) Report from NAVSAC Liaison.

(8) Coast Guard Auxiliary report.

(9) National Association of State Boating Law Administrators Report.

(10) Update on development of Vessel Identification System.

(11) Report on current recreational boating survey.

(12) Prevention Through People Subcommittee report.

(13) Boats and Associated Equipment Subcommittee report.

(14) Recreational Boating Safety Strategic Planning Subcommittee report.

Prevention Through People Subcommittee. The agenda includes the following: Discuss current regulatory projects, grants, contracts, and new issues impacting prevention through people.

Boats and Associated Equipment Subcommittee. The agenda includes the following: Discuss current regulatory projects, grants, contracts and new issues impacting boats and associated equipment.

Recreational Boating Safety Strategic Planning Subcommittee. The agenda includes the following: Discuss current status of the strategic planning process and any new issues or factors that could impact, or contribute to, the development of the strategic plan for the recreational boating safety program.

Procedural

All meetings are open to the public. At the Chairs' discretion, members of the public may make oral presentations during the meetings. If you would like to make an oral presentation at a meeting, please notify the Executive Secretary of your request no later than Monday, October 9, 2006. Written material for distribution at a meeting should reach the Coast Guard no later than Thursday, October 12, 2006. If you would like a copy of your material distributed to each member of the committee or subcommittee in advance of a meeting, please submit 25 copies to the Executive Director no later than Thursday, October 12, 2006.

Information on Services for Individuals With Disabilities

For information on facilities or services for individuals with disabilities or to request special assistance at the meetings, contact the Executive Secretary as soon as possible.

Dated: September 13, 2006.
Brian M. Salerno,
Rear Admiral, U.S. Coast Guard, Director of Inspections and Compliance.

[FR Doc. E6-16229 Filed 9-29-06; 8:45 am]

BILLING CODE 4910-15-P